DEPARTMENT OF THE INTERIOR

National Park Service

[2301-RYY]

Information Collection Sent to the Office of Management and Budget (OMB) for Approval; OMB Control Number 1024-0236; National Park Service Research Permit and Reporting System Applications and Reports

AGENCY: National Park Service, Interior.

ACTION: Notice; request for comments.

SUMMARY: We (National Park Service) have sent an Information Collection Request (ICR) to OMB for review and approval. We summarize the ICR below and describe the nature of the collection and the estimated burden and cost, and request public comment on this collection request. This information collection is scheduled to expire on November 30, 2010. We may not conduct or sponsor, and a person is not required to respond to a collection of information unless it displays a currently valid OMB control number. However, under OMB regulations, we may continue to conduct or sponsor this information collection while it is pending at OMB.

DATES: You must submit comments on or before December 29, 2010.

ADDRESSES: Send your comments and suggestions on this information collection to the Desk Officer for the Department of the Interior, Office of Information and Regulatory Affairs, OMB, at (202) 395-5806 (fax) or OIRA_DOCKET@OMB.eop.gov (e-mail). Please provide a copy of your comments to Dr. John G. Dennis, Natural Resources (MIB 3130), National Park Service, 1849 C Street, NW., Washington, DC 20240; Voice: 202-513-7174; or via Fax at: 202-371-2131; or by E-mail: WASO_NRSS_researchcoll@nps.gov.

FOR FURTHER INFORMATION CONTACT: Dr. John G. Dennis, Natural Resources (MIB 3130), National Park Service, 1849 C Street, NW., Washington, DC 20240; Voice: 202-513-7174; Fax: 202-371-2131; E-mail: WASO_NRSS_researchcoll@nps.gov. If you comment to NPS via electronic mail, please submit your comments as an attached ASCII or MSWord file and avoid the use of special characters and any form of encryption. Please also include “Attn: NPS Research Permit and Reporting System” and your name and return address in your e-mail message. If you would like, but do not receive, a confirmation from the system that we have received your e-mail message, contact us directly at the NPS phone number given here.

SUPPLEMENTARY INFORMATION: OMB Control Number: 1024-0236.

Title: National Park Service Research Permit and Reporting Systems Applications and Reports.

Form Number: 10-741A & B, 10-226.

Type of Request: Extension of a currently approved collection.

Description of Respondents: Individual scientific investigators, science educators, research organizations, and science education organizations who apply for a permit.

Respondent's Obligation: Required to obtain or retain a benefit.

Frequency of Collection: On occasion.

Estimated Number of Responses: 10-741A—4,980; 10-741B—415; 10-226—5,395.

Completion Time Per Response: 10-741A—1.375; 10-741B—1.00; 10-226—0.25.

Estimated Annual Burden Hours: 10-741A—6,872; 10-741B—415; 10-226—1,349.

Estimated Annual Nonhour Burden Cost: None.

Abstract: The NPS regulates scientific research, studies and science education activities inside park boundaries under regulations codified at 36 CFR Part 2, Section 2.5. The NPS administers these regulations to provide for scientific research while also protecting park resources and other park uses from adverse impacts that could occur if inappropriate scientific research and collecting studies or science education activities were to be conducted within park boundaries.

NPS uses the collected information for managing the use and preservation of park resources and for reporting to the public the status of permitted research and collecting activities. NPS is requesting that OMB renew its approval of the current Application for a Scientific Research and Collecting Permit, Application for a Science Education Permit, and Investigator's Annual Report collection of information forms.

Comments: On July 21, 2010, we published in the Federal Register (75 FR 42459) a notice of our intent to request that OMB renew this information collection. In that notice, we solicited comments for 60 days, ending on September 20, 2010. NPS received one comment on this notice. The one comment stated that the commenter has “no problems with the current permitting system for full-scale research projects in the National Parks. However, I would like to recommend a simplified and rapid permitting process for limited and targeted collecting of arthropods.” NPS found that this comment did not indicate any clear reasons for changing any of the three forms.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 23, 2010.
Robert Gordon,
NPS, Information Collection Clearance Officer.

[FR Doc. 2010-29975 Filed 11-26-10; 8:45 am]

BILLING CODE P